DEPARTMENT OF ENERGY

Federal Energy Regulatory Commission

Combined Notice of Filings #1

Take notice that the Commission received the following exempt wholesale generator filings:

Docket Numbers: EG12-1-000.

Applicants: Agua Caliente Solar, LLC.

Description: Agua Caliente Solar, LLC Notice of Self Certification of Exempt Wholesale Generator Status.

Filed Date: 10/04/2011.

Accession Number: 20111004-5142.

Comment Date: 5 p.m. Eastern Time on Tuesday, October 25, 2011.

Take notice that the Commission received the following electric rate filings:

Docket Numbers: ER11-4500-001.

Applicants: Enel Stillwater, LLC.

Description: Enel Stillwater, LLC submits tariff filing per 35: Enel Stillwater, LLC MBR Tariff to be effective 9/12/2011.

Filed Date: 10/04/2011.

Accession Number: 20111004-5178.

Comment Date: 5 p.m. Eastern Time on Tuesday, October 25, 2011.

Docket Numbers: ER11-4618-001.

Applicants: White Pine Electric Power.

Description: White Pine Electric Power submits tariff filing per 35: Market-Based Rate Tariff Compliance Filing to be effective 9/23/2011.

Filed Date: 10/04/2011.

Accession Number: 20111004-5067.

Comment Date: 5 p.m. Eastern Time on Tuesday, October 25, 2011.

Docket Numbers: ER12-22-000.

Applicants: Endure Energy, LLC.

Description: Endure Energy, LLC submits tariff filing per 35.13(a)(2)(iii: Amended Market Based Rate to be effective 10/4/2011.

Filed Date: 10/04/2011.

Accession Number: 20111004-5136.

Comment Date: 5 p.m. Eastern Time on Tuesday, October 25, 2011.

Docket Numbers: ER12-24-000.

Applicants: ML Partnership, LLC.

Description: ML Partnership, LLC Notification of Cancellation.

Filed Date: 10/04/2011.

Accession Number: 20111004-5179.

Comment Date: 5 p.m. Eastern Time on Tuesday, October 25, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2011.
Nathaniel J. Davis, Sr.,
Deputy Secretary.

[FR Doc. 2011-26697 Filed 10-14-11; 8:45 am]

BILLING CODE 6717-01-P